DEPARTMENT OF THE INTERIOR

Bureau of Indian Affairs

Ysleta del Sur Pueblo of the Tigua Tribe Liquor Ordinance

AGENCY: Bureau of Indian Affairs, Interior.

ACTION: Notice.

SUMMARY: This notice publishes the Ysleta del Sur Pueblo of the Tigua Tribe Liquor Ordinance. The Ordinance regulates the control, possession, and sale of liquor on the Ysleta del Sur Pueblo trust lands, to be conformity with the laws of the State of Texas, where applicable and necessary. Although the Ordinance was adopted on March 19, 2002, it does not become effective until published in the Federal Register because the failure to comply with the ordinance may result in criminal charges.

DATES: This Ordinance is effective on May 14, 2002.

FOR FURTHER INFORMATION CONTACT: Kaye Armstrong, Office of Tribal Services, 1849 C Street, NW., MS 4631-MIB, Washington, DC 20240-4001; telephone (202) 208-4400.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Ysleta del Sur Pueblo Liquor Ordinance No. 004-02, as authorized by Resolution No. TC-33-02, was duly adopted by the Ysleta del Sur Pueblo Tribal Council on March 19, 2002. The Ysleta del Sur Pueblo, in furtherance of its economic and social goals, has taken positive steps to regulate retail sales of alcohol and use revenues to combat alcohol abuse and its debilitating effects among individuals and family members within the Ysleta del Sur Pueblo.

This notice is published in accordance with the authority delegated by the Secretary of the Interior to the Assistant Secretary—Indian Affairs by 209 Departmental Manual 8.1.

I certify that by Resolution No. TC-33-02, the Ysleta de Sur Pueblo of the Tigua Tribe Liquor Ordinance No. 004-02, was duly adopted by the Ysleta del Sur Pueblo Tribal Council on March 19, 2002.

Dated: May 3, 2002.
Neal A. McCaleb,
Assistant Secretary, Indian Affairs.

The Ysleta del Sur Pueblo of the Tigua Tribe Liquor Ordinace No. 004-02 reads as follows:

Tribal Ordinance No. 004-02; Adopting Article 64 of the Tigua Tribe's Code of Laws Entitled: Sale of Alcoholic Beverages

Pursuant to the authority vested in the Tribal Council as the duly constituted traditional governing body of the Ysleta del Sur Pueblo, a federally recognized Indian tribe exercising all inherent governmental powers, fiscal authority and tribal sovereignty as recognized in the Ysleta del Sur Pueblo Restoration Act (Public Law 100-89 as codified in 25 U.S.C. 1300g) and its lawful authority to provide for health, safety, morals, welfare, tribal economic development and self-sufficiency of the Ysleta del Sur Pueblo, the Tribal Council hereby enacts this Ordinance for the purpose of regulating the sale of alcoholic beverages. Therefore, be it resolved and ordained by the Tribal Council of the Ysleta del Sur Pueblo:

That the following Article entitled Sale of Alcoholic Beverages, which by reference, is incorporated herein as if set forth at length, is hereby adopted as Article 64 of the Tigua Tribe's Code of Laws.

Article 64: Sale of Alcoholic Beverages

Section 1—Conformity with State Law. The Pueblo, acting through the Tribal Council, may sell alcohol and alcoholic beverages on the Pueblo's reservation for on premises consumption only. Except as otherwise provided herein, the sale and consumption of alcoholic beverages on the Pueblo's reservation and its lands shall be in conformance with the laws of the State of Texas. Nothing contained herein shall be construed as a grant of jurisdiction to the State of Texas or a waiver of any of the Pueblo's sovereignty or immunity from suit.

Section 2—Fees. Any and all fees, charges, or income resulting from the sale of alcoholic beverages shall be due and payable to the Ysleta del Sur Pueblo rather than the State of Texas.

Section 3—Enforcement. The Pueblo shall be solely responsible for the enforcement and administration of this Ordinance. The Tigua Tobacco and Alcohol Commission shall issue and enforce such regulations as are reasonably necessary to carry out the purposes of this Article.

Section 4—Tigua Alcohol and Tobacco Commission.

4.01. There is hereby created the Tigua Tobacco and Alcohol Commission comprised of a Commissioner and two (2) members. The Commissioner and the members of the Commission shall be tribal members. No person shall be appointed to the Tigua Tobacco and Alcohol Commission unless the Tribal Council is satisfied that he or she has no ownership interest in any company or enterprise which contracts with the Pueblo for the sale of alcohol or tobacco, or any activity which may have interests in conflict with the Pueblo's sale of alcohol or tobacco.

4.02. The Commissioner and the members of the Commission shall serve at the pleasure of the Tribal Council and may be removed at any time by majority vote of the Tribal Council.

4.03. The Commissioner and members, and any employees of the Commission, shall be reasonably compensated, as determined by the Tribal Council.

Section 5—Prohibition. No individual, entity, or organization shall be permitted to sell or dispense alcoholic beverages from or on the Pueblo's reservation or its lands other than the Pueblo acting by and through the Tribal Council.

[FR Doc. 02-12013 Filed 5-13-02; 8:45 am]

BILLING CODE 4310-4J-P